DEPARTMENT OF DEFENSE

Office of the Secretary

[Docket ID: DoD-2022-OS-0050]

Submission for OMB Review; Comment Request

AGENCY: Office of the Under Secretary of Defense for Personnel and Readiness (OUSD(P&R)), Department of Defense (DoD).

ACTION: 30-Day information collection notice.

SUMMARY: The DoD has submitted to OMB for clearance the following proposal for collection of information under the provisions of the Paperwork Reduction Act.

DATES: Consideration will be given to all comments received by September 14, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; and OMB Number: New Parent Support Program Evaluation; OMB Control Number 0704-NPSP.

Type of Request: New.

Number of Respondents: 315.

Responses per Respondent: 4.38.

Annual Responses: 1,380.

Average Burden per Response: 37.5 minutes.

Annual Burden Hours: 863 hours.

Needs and Uses: The Military Community & Family Policy Family Advocacy Program (FAP) within the DoD's Office of the Deputy Assistant Secretary of Defense (OSD) is requesting Office of Management and Budget clearance for the New Parent Support Program (NPSP) Evaluation. OSD FAP contracted with Pennsylvania State University for this data collection to assist in understanding the benefits and limitations of using a DoD developed, standardized, evidence-informed home visitation curriculum (i.e., Take Root Home Visitation [TRHV]) within the NPSP. TRHV is a tailorable home visitation curriculum that addresses risk and protective factors for child maltreatment, which is a primary focus of NPSP home visitation. TRHV is designed to be used by home visitors to structure their time with their clients and their families. TRHV helps home visitors actively work with parents to strengthen core parenting skills, improve the parent-child bond, and promote positive child development. During visits, home visitors will use TRHV to collaborate with parents on identifying areas of strength and challenge, discuss ideas and strategies that can help parents achieve their goals, engage in role play or other skill building activities to help parents master core concepts, observe parents as they interact with their child and provide feedback, provide parents with handouts and other relevant materials, and assign skill practice homework to be completed between visits.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: August 10, 2022.
Aaron T. Siegel,
Alternate OSD Federal Register Liaison Officer, Department of Defense.

[FR Doc. 2022-17469 Filed 8-12-22; 8:45 am]

BILLING CODE 5001-06-P